DEPARTMENT OF TRANSPORTATION

Federal Railroad Administration

Proposed Agency Information Collection Activities; Comment Request

AGENCY: Federal Railroad Administration, DOT.

ACTION: Notice and request for comments.

SUMMARY: In compliance with the Paperwork Reduction Act of 1995 (44 U.S.C. 3501 et seq.), this notice announces that the Information Collection Requirements (ICRs) abstracted below have been forwarded to the Office of Management and Budget (OMB) for review and comment. The ICRs describes the nature of the information collections and their expected burdens. The Federal Register notice with a 60-day comment period soliciting comments on the following collection of information was published on October 5, 2007 (72 FR 57097).

DATES: Comments must be submitted on or before January 17, 2008.

FOR FURTHER INFORMATION CONTACT: Mr. Robert Brogan, Office of Planning and Evaluation Division, RRS-21, Federal Railroad Administration, 1200 New Jersey Ave., SE., Mail Stop 17, Washington, DC 20590 (telephone: (202) 493-6292), or Ms. Gina Christodoulou, Office of Support Systems Staff, RAD-43, Federal Railroad Administration, 1200 New Jersey Ave., SE., Mail Stop 35, Washington, DC 20590 (telephone: (202) 493-6139). (These telephone numbers are not toll-free.)

SUPPLEMENTARY INFORMATION: The Paperwork Reduction Act of 1995 (PRA), Pub. L. 104-13, 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On October 5, 2007, FRA published a 60-day notice in the Federal Register soliciting comment on ICRs that the agency was seeking OMB approval. 72 FR 57097. FRA received one comment in response to this notice.

The comment came from John P. Tolman, Vice President and National Legislative Representative of the Brotherhood of Locomotive Engineers and Trainmen (BLET). The BLET is the duly designated and recognized collective bargaining representative for the craft or class of Locomotive engineer employed on all Class I railroads. The BLET also represents operating and other employees on numerous Class II and Class III railroads. In his letter, Mr. Tolman stated the following:

BLET supports the full range of information collection encompassed under OMB Control Number 2130-0500. However, BLET believes the revision of certain of FRA's forms to require railroads to provide additional information already in their possession will enhance the safety data available to FRA and facilitate more precise analyses of trends in the industry. Specifically, the BLET is concerned that exclusive reliance on mileage-based data in developing accident/incident and injury casualty rates already has compromised the quality of analysis of switching operations. Furthermore, the narrow focus on mileage-based data also may infect data analysis for other freight operations in the future, because mileage-based measures fail to reflect the ongoing evolution of remote control locomotive operations throughout the American railroad industry.

Mr. Tolman then alluded to FRA's prior 60-day Federal Register renewal notice pertaining to these activities that was published on December 14, 2005 (70 FR 74103). He noted:

In response to that notice, the BLET filed comments on January 4, 2006 * * * In those comments, we explained in detail, our rationale for revising certain FRA forms to require railroads to report the number of employee hours spent in each of the various classes of service, in addition to the mileage totals currently reported.

In its response to BLET's comments of January 4, 2006, FRA acknowledged that BLET had raised important issues which needed to be looked into carefully. FRA further remarked that it would like to examine these issues by initiating an independent study sometime in 2006, budget permitting.

In the current BLET letter dated November 29, 2007, Mr. Tolman goes on to observe:

In the 21+ months since FRA acknowledged the need to study the vital safety issues our 2006 comments raised, funding for the study has not been allocated. We believe that lack of re-authorization for the rail safety program has been a major factor in this needed work not going forward. Nonetheless, the need for such a study—and possible revision of applicable forms thereafter—is as great today as it was nearly two years ago. Indeed, given that FRA has published at least two sets of guidelines pertaining to non-incidental remote control locomotive operations on main track, the issue of data normalization has become more pressing now, in our view. Accordingly, we urge FRA to reiterate the shared concerns identified in our previous comments, and to reaffirm its intention to study the issue when sufficient funding is available to do so.

FRA appreciates BLET's current letter of support for this vital information collection, and now reaffirms its intention to study this issue. Further, FRA hereby states that it will commit agency funding to this study, and plans on beginning this study sometime in the second quarter of 2008. Once this study is completed, FRA will review its accident/incident forms to determine appropriate changes and will, of course, keep the BLET fully apprised of developments.

Before OMB decides whether to approve these proposed collections of information, it must provide 30 days for public comment. 44 U.S.C. 3507(b); 5 CFR 1320.12(d). Federal law requires OMB to approve or disapprove paperwork packages between 30 and 60 days after the 30 day notice is published. 44 U.S.C. 3507(b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The proposed requirements are being submitted for clearance by OMB as required by the PRA.

Title: Accident/Incident Reporting and Recordkeeping.

OMB Control Number: 2130-0500.

Type of Request: Extension of a currently approved collection.

Affected Public: Railroads.

Form(s): FRA F 6180.54/55/55A/56/57/78/81/97/98/99/107.

Abstract: The collection of information is due to the railroad accident reporting regulations set forth in 49 CFR part 225 which require railroads to submit monthly reports summarizing collisions, derailments, and certain other accidents/incidents involving damages above a periodically revised dollar threshold, as well as certain injuries to passengers, employees, and other persons on railroad property. Because the reporting requirements and the information needed regarding each category of accident/incident are unique, a different form is used for each category.

Annual Estimated Burden Hours: 47,521 hours.

Addressee: Send comments regarding these information collections to the Office of Information and Regulatory Affairs, Office of Management and Budget, 725 Seventeenth Street, NW., Washington, DC 20503, Attention: FRA Desk Officer. Comments may also be sent via e-mail to OMB at the following address: oira_submissions@omb.eop.gov.

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC, on December 12, 2007.
D.J. Stadtler,
Director, Office of Financial Management, Federal Railroad Administration.

[FR Doc. E7-24516 Filed 12-17-07; 8:45 am]

BILLING CODE 4910-06-P